ENVIRONMENTAL PROTECTION AGENCY

40 CFR Parts 52 and 81

[EPA-R05-OAR-2020-0730; EPA-R05-OAR-2020-0731; EPA-R05-OAR-2022-0004; FRL-9629-03-R5]

Air Plan Approval; Michigan; Redesignation of the Detroit, MI Area to Attainment of the 2015 Ozone Standards

AGENCY: Environmental Protection Agency (EPA).

ACTION: Proposed rule; extension of public comment period.

SUMMARY: The Environmental Protection Agency (EPA) is extending the comment period for a proposed rule published March 14, 2022. In response to a request from Sierra Club, EPA is extending the comment period for 14 days.

DATES: The comment period for the proposed rule published on March 14, 2022, at 87 FR 14210, is extended. Comments must be received on or before April 27, 2022.

ADDRESSES: Submit comments, identified by Docket ID No. EPA-R05-OAR-2020-0730, EPA-R05-OAR-2020-0731, or EPA-R05-OAR-2022-0004, at http://www.regulations.gov, or via email to arra.sarah@epa.gov. Additional instructions to comment can be found in the notice of proposed rulemaking published March 14, 2022 (87 FR 14210).

FOR FURTHER INFORMATION CONTACT: Eric Svingen, Environmental Engineer, Attainment Planning and Maintenance Section, Air Programs Branch (AR-18J), U.S. Environmental Protection Agency, Region 5, 77 West Jackson Boulevard, Chicago, Illinois 60604, (312) 353-4489, svingen.eric@epa.gov. The EPA Region 5 office is open from 8:30 a.m. to 4:30 p.m., Monday through Friday, excluding Federal holidays and facility closures due to COVID-19.

SUPPLEMENTARY INFORMATION: On March 14, 2022 (87 FR 14210), EPA proposed to find that the Detroit, Michigan area is attaining the 2015 primary and secondary ozone National Ambient Air Quality Standards (NAAQS), and to act in accordance with a request from the Michigan Department of Environment, Great Lakes, and Energy (EGLE) to redesignate the area to attainment for the 2015 ozone NAAQS because the request meets the statutory requirements for redesignation under the Clean Air Act. The Detroit area includes Livingston, Macomb, Monroe, Oakland, St. Clair, Washtenaw, and Wayne Counties. EGLE submitted this request on January 3, 2022. EPA also proposed to approve, as a revision to the Michigan State Implementation Plan, the State's plan for maintaining the 2015 ozone NAAQS through 2035 in the Detroit area. EPA also proposed to approve Michigan's 2025 and 2035 volatile organic compound and oxides of nitrogen motor vehicle emissions budgets (budgets) for the Detroit area and initiating the adequacy review process for these budgets. Finally, EPA also proposed to approve portions of separate December 18, 2020, submittals as meeting the applicable requirements for a base year emissions inventory and emissions statement program. On March 21, 2022, Sierra Club requested that EPA extend the comment period by 21 days, to allow Sierra Club additional time to “review the basis for EPA's proposal and confer with local partners.” In response, EPA is extending the comment period for 14 days. This extension provides additional time to Sierra Club and its local partners, while also allowing time for EPA and EGLE to plan for additional upcoming rulemakings that relate to EPA's findings on this proposed action.

Dated: March 28, 2022.
Debra Shore,
Regional Administrator, Region 5.

[FR Doc. 2022-07007 Filed 4-1-22; 8:45 am]

BILLING CODE 6560-50-P